DEPARTMENT OF STATE

[Public Notice 11140]

Modified Display Dates Due to the COVID-19 Pandemic, for Culturally Significant Objects Imported for Exhibition

SUMMARY: The Department understands that, due to museum closures and other effects of the COVID-19 pandemic, many exhibition venues throughout the United States are modifying the dates of exhibitions for which they had already imported certain objects that I or another Department official with delegated authority under 22 U.S.C. 2459 had determined, prior to importation, are of cultural significance and whose temporary exhibition or display is in the national interest. I hereby confirm that if the national interest determination contained in a Federal Register Notice for such objects noted the possibility of display at “additional exhibitions or venues to be determined” following the approximate (i.e., “on or about”) dates of exhibition at the venue or venues stated in the Notice, the Department official's intention was to make determinations that would continue through a reasonable period of temporary display—including at the originally stated venue or venues—not necessarily limited to the dates of exhibition referenced in the Notice. As such, the Department regards its determinations of cultural significance and national interest made upon such objects prior to their importation as remaining valid through a reasonable but originally unforeseen extension of the objects' display due to the COVID-19 pandemic.

FOR FURTHER INFORMATION CONTACT: Chi D. Tran, Program Administrator, Office of the Legal Adviser, U.S. Department of State (telephone: 202-632-6471; email: section2459@state.gov). The mailing address is U.S. Department of State, L/PD, SA-5, Suite 5H03, Washington, DC 20522-0505.

Marie Therese Porter Royce,
Assistant Secretary, Educational and Cultural Affairs, Department of State.

[FR Doc. 2020-13340 Filed 6-19-20; 8:45 am]

BILLING CODE 4710-05-P